DEPARTMENT OF TRANSPORTATION

Federal Aviation Administration

14 CFR Part 39

[Docket No. FAA-2017-0157; Directorate Identifier 2016-CE-039-AD]

RIN 2120-AA64

Airworthiness Directives; Piper Aircraft, Inc. Airplanes

AGENCY: Federal Aviation Administration (FAA), DOT.

ACTION: Notice of proposed rulemaking (NPRM).

SUMMARY: We propose to supersede Airworthiness Directive (AD) 69-13-03, which applies to all Piper Aircraft, Inc. Models PA-23, PA-23-160, PA-23-235, PA-23-250, PA-E23-250, and PA-30 airplanes. AD 69-13-03 currently requires inspection of the heater exhaust extension, replacement of the extension as necessary, and overhaul of the combustion heater assembly. Since we issued AD 69-13-03, we proposed an AD that applies to the Meggitt (Troy), Inc. combustion heaters, and the proposed combustion heater AD would incorporate corrective actions for the heater that contradict the overhaul requirement of AD 69-13-03. This proposed AD would retain the inspection of the heater exhaust extension, with replacement of the extension as necessary, and remove the overhaul requirement of the combustion heater assembly. We are proposing this AD to correct the unsafe condition on these products.

DATES: We must receive comments on this proposed AD by April 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2017-0157; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Scott Hopper, Aerospace Engineer, FAA, Atlanta Aircraft Certification Office, 1701 Columbia Avenue, College Park, Georgia 30337; phone: (404) 474-5535; fax: (404) 474-5606; email: scott.hopper@faa.gov.

SUPPLEMENTARY INFORMATION:

Comments Invited

We invite you to send any written relevant data, views, or arguments about this proposed AD. Send your comments to an address listed under the ADDRESSES section. Include “Docket No. FAA-2017-9157; Directorate Identifier 2016-CE-039-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued AD 69-13-03, Amendment 39-1749 (38 FR 33765, December 7, 1973) (“AD 69-13-03”), for certain Piper Aircraft, Inc. Models PA-23, PA-23-160, PA-23-235, PA-23-250, PA-E23-250, and PA-30 airplanes. AD 69-13-03 requires inspection of the heater exhaust extension to determine if it is mild steel or stainless steel, repetitive inspections of the mild steel extensions for deterioration, replacing the extension as necessary, and overhaul of the combustion heater assembly. AD 69-13-03 resulted from the potential of carbon monoxide entering the airplane cabin. We issued AD 69-13-03 to prevent carbon monoxide from entering the airplane cabin.

Actions Since AD 69-13-03 Was Issued

Since we issued AD 69-13-03, we proposed an AD that applies to the Meggitt (Troy), Inc. combustion heaters installed on the airplanes AD 69-13-03 applies to. The proposed combustion heater AD would incorporate corrective actions for the heater that contradict the overhaul requirement of AD 69-13-03. The NPRM for the Meggitt (Troy), Inc. combustion heaters was published in the Federal Register on November 3, 2016 (81 FR 76532). You may view the docket for the Meggitt NPRM by going to http://www.regulations.gov and searching for Docket No. FAA-2014-0603.

FAA's Determination

We are proposing this AD because we evaluated all the relevant information and determined the unsafe condition described previously is likely to exist or develop in other products of the same type design.

Proposed AD Requirements

This proposed AD would retain certain requirements of AD 69-13-03. This proposed AD would remove the requirement for overhaul of the heater assembly.

Costs of Compliance

We estimate that this proposed AD affects 1,950 airplanes of U.S. registry.

We estimate the following costs to comply with this proposed AD. The new requirements of this proposed AD add no additional economic burden:

Estimated Costs
Action | Labor cost | Parts cost | Cost per product | Cost on U.S. operators
Determine installation of a mild steel or stainless steel heater exhaust extension | 1 work-hour × $85 per hour = $85 | N/A | $85 | $165,750

We estimate the following costs to do any necessary corrective actions that would be required based on the results of the proposed inspection. We have no way of determining the number of airplanes that might need these corrective actions:

On-Condition Costs
Action | Labor cost | Parts cost | Cost per product
Inspection of mild steel heater exhaust extension | 1 work-hour × $85 per hour = $85 | Not applicable | $85
Replacement of heater exhaust extension | 1 work-hour × $85 per hour = $85 | $1,000 * | 1,085
Remove or disable the heater | 1 work-hour × $85 per hour = $85 | Not applicable | 85
* There are currently no replacement parts available for the heater exhaust extension. The $1,000 parts cost is the FAA's best estimate if parts were to become available.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 69-13-03, Amendment 39-1749 (38 FR 33765, December 7, 1973), and adding the following new AD:

Piper Aircraft, Inc.: Docket No. FAA-2017-0157; Directorate Identifier 2016-CE-039-AD.

(a) Comments Due Date

The FAA must receive comments on this AD action by April 17, 2017.

(b) Affected ADs

This AD replaces Airworthiness Directive (AD) 69-13-03, Amendment 39-1749 (38 FR 33765, December 7, 1973) (“AD 69-13-03”).

(c) Applicability

This AD applies to Piper Aircraft, Inc. Models PA-23, PA-23-160, PA-23-235, PA-23-250, PA-E23-250, and PA-30 airplanes, all serial numbers, certificated in any category.

(d) Subject

Joint Aircraft System Component (JASC)/Air Transport Association (ATA) of America Code 21, Air Conditioning.

(e) Unsafe Condition

This AD was prompted by the potential of carbon monoxide entering the airplane cabin. We are issuing this AD to prevent failure of the combustion heater exhaust extension, which could lead to carbon monoxide entering the airplane cabin.

(f) Compliance

Comply with this AD within the compliance times specified, unless already done.

(g) Mild Steel or Stainless Steel Exhaust Extension Determination

Within the next 25 hours time-in-service (TIS) after December 14, 1973 (the effective date retained from AD 69-13-03), remove the heater exhaust tube shroud and by means of a magnet determine if Stewart-Warner part number (P/N) 486238 exhaust extension (Piper P/N 754-708) is mild steel (magnetic) or stainless steel (non-magnetic).

If the exhaust extension is stainless steel, then no further action is required by this AD.

(h) Mild Steel Exhaust Extensions

If there is a mild steel Stewart-Warner P/N 486238 exhaust extension (Piper P/N 754-708) installed on the airplane, within 25 hours TIS after the effective date of this AD, you must do one of the following actions found in paragraph (h)(1) through (3) of this AD.

(1) Replace the mild steel exhaust extension with a stainless steel exhaust extension.

(2) Visually inspect the mild steel exhaust extension for deterioration (cracks, corrosion, rust, and/or flaking) and repetitively thereafter visually inspect the exhaust extension at intervals not to exceed 25 hours TIS or until the mild steel exhaust extension is replaced with a stainless steel exhaust extension.

(3) Disable or remove the combustion heater.

(i) Deterioration of the Mild Steel Exhaust Extension

If deterioration (cracks, corrosion, rust, and/or flaking) of the extension is found during any of the inspections required in paragraph (h)(2) of this AD, before further flight, you must do one of the following actions in paragraph (i)(1) or (2) of this AD.

(1) Replace the exhaust extension with a stainless steel exhaust extension or a mild steel P/N 486238 exhaust extension that has been inspected per paragraph (h)(2) of this AD and was found free of deterioration. If you install a mild steel P/N 486238 exhaust extension, you must continue the repetitive visual inspections required in paragraph (h)(2) of this AD.

(2) Disable or remove the heater.

(j) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(3) AMOCs approved for paragraphs (a) and (b) of AD 69-13-03 are approved as AMOCs for the corresponding provisions of this AD.

(k) Related Information

For more information about this AD, contact Scott Hopper, Aerospace Engineer, FAA, Atlanta Aircraft Certification Office, 1701 Columbia Avenue, College Park, Georgia 30337; phone: (404) 474-5535; fax: (404) 474-5606; email: scott.hopper@faa.gov.

Issued in Kansas City, Missouri, on February 17, 2017.
Pat Mullen,
Acting Manager, Small Airplane Directorate, Aircraft Certification Service.

[FR Doc. 2017-03952 Filed 3-1-17; 8:45 am]

BILLING CODE 4910-13-P